DEPARTMENT OF ENERGY

Federal Energy Regulatory Commission

[Docket Nos. CP22-503-000, CP22-502-000]

Columbia Gas Transmission, LLC, Transcontinental Gas Pipe Line Company, LLC; Notice of Availability of The Draft Environmental Impact Statement for The Proposed Virginia Reliability Project and Commonwealth Energy Connector Project

The staff of the Federal Energy Regulatory Commission (FERC or Commission) has prepared a draft environmental impact statement (EIS) for the Virginia Reliability Project (VRP), proposed by Columbia Gas Transmission, LLC (Columbia) and the Commonwealth Energy Connector Project (CEC Project) proposed by Transcontinental Gas Pipe Line Company, LLC (Transco) in the above-referenced dockets.

Columbia requests authorization to construct and operate its VRP in Greensville, Prince George, Sussex, Surry, Southampton, and Isle of Wight Counties, Virginia, and in the cities of Suffolk and Chesapeake, Virginia. The VRP is designed to provide an additional 100,000 Dekatherms per day (Dth/d) of firm transportation service for Virginia Natural Gas, Inc. (VNG), from Emporia I/C to VNG's existing delivery point in Chesapeake County, Virginia.

Transco requests authorization to construct, operate, and maintain its CEC Project in Mecklenburg, Brunswick, and Greensville Counties, Virginia. The CEC Project is designed to provide an additional 105,000 Dth/d of firm transportation service for VNG from Transco's existing Station 165 Zone 5 Pooling Point in Pittsylvania County, Virginia, to the existing interconnection between Transco and Columbia in Greensville County, Virginia (Emporia I/C), where VNG has contracted with Columbia for further firm transportation service.

The draft EIS assesses the potential environmental effects of the construction and operation of the VRP and the CEC Project (the Projects) in accordance with the requirements of the National Environmental Policy Act (NEPA). The FERC staff concludes that approval of the proposed Projects, with the mitigation measures recommended in the EIS, would result in some adverse environmental impacts; however, with the exception of potential impacts on climate change, FERC staff concludes that impacts would be reduced to less than significant levels. Regarding climate change impacts, the EIS is not characterizing the Projects' greenhouse gas emissions as significant or not significant because the Commission is conducting a generic proceeding to determine whether and how the Commission will conduct significance determinations going forward.¹

¹ Consideration of Greenhouse Gas Emissions in Natural Gas Infrastructure Project Reviews, 178 FERC ¶ 61,108 (2022); 178 FERC ¶ 61,197 (2022).

The U.S. Army Corps of Engineers (USACE), Norfolk District, and the U.S. Fish and Wildlife Service (USFWS) participated as cooperating agencies in the preparation of the EIS. Cooperating agencies have jurisdiction by law or special expertise with respect to resources potentially affected by the proposal and participate in the NEPA analysis. Although the cooperating agencies provided input to the conclusions and recommendations presented in the draft EIS, the agencies will present their own conclusions and recommendations in any applicable Records of Decision or other documentation for the Projects.

The draft EIS addresses the potential environmental effects of the construction and operation of the following VRP facilities, all in Virginia:

• replacement of about 49.2 miles of the existing 12-inch-diameter VM-107 and VM-108 pipelines with 24-inch-diameter pipeline mostly within Columbia's existing right-of-way, in Sussex, Surry, Southampton, and Isle of Wight Counties, as well as in the cities of Suffolk and Chesapeake;

• installation of one new 5,500-horsepower (HP) dual-drive compressor unit at the existing Emporia Compressor Station in Greensville County;

• modification of the existing compressor units and an increase in power by 2,700 HP at the existing Petersburg Compressor Station in Prince George County;

• modification of the Emporia Point of Receipt in Greensville County, Regulator Station 7423 in Prince George County, and MS-831010 Point of Delivery in Chesapeake; and

• replacement of eight mainline valves (MLV), installation of one new MLV and five new launchers/receivers, and replacement or installation of other minor appurtenant facilities.

The draft EIS addresses the potential environmental effects of the construction and operation of the following CEC Project facilities, all in Virginia:

• construction of a 6.35-mile-long, 24-inch-diameter pipeline loop ² (referred to as the Commonwealth Loop), including valve and launcher/receiver facilities, in Brunswick and Greensville Counties;

² A pipeline loop is a segment of pipe constructed parallel to an existing pipeline to increase capacity.

• addition of a 33,000-HP electric motor-driven compressor unit at the existing Compressor Station 168 in Mecklenburg County; and

• modification of the existing Emporia Metering and Regulation Station in Greensville County.

The Commission mailed a copy of the Notice of Availability to federal, state, and local government representatives and agencies; elected officials; environmental and public interest groups; Native American tribes; potentially affected landowners and other interested individuals and groups; and newspapers and libraries in the area of the Projects. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP22-503-000 or CP22-502-000). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5:00 p.m. Eastern Daylight Time on June 5, 2023.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP22-503-000 or CP22-502-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

(4) In lieu of sending written or electronic comments, the Commission invites you to attend one of the in-person or virtual public comment sessions its staff will conduct to receive comments on the draft EIS. The primary goal of these comment sessions is to have you identify the specific environmental issues and concerns with the draft EIS. Individual oral comments will be taken on a one-on-one basis with a court reporter. This format is designed to receive the maximum amount of oral comments in a convenient way during the timeframe allotted.

The in-person comment sessions are scheduled as follows:

Date and time | Location
Tuesday April 25, 2023, 5:00 p.m.—8:00 p.m. | Appomattox Event Center, 9 W Old St. #100, Petersburg, VA 23803, 804-613-4512.
Wednesday April 26, 2023, 5:00 p.m.-8:00 p.m. | Chesapeake Conference Center, 700 Conference Center Dr., Chesapeake, VA 23320, 757-382-2500.
Thursday April 27, 2023, 5:00 p.m.—8:00 p.m. | Golden Leaf Commons, 1300 Greensville County, Cir B, Emporia, VA 23847, 434-348-4125.

Each in-person comment session is scheduled from 5:00 p.m. to 8:00 p.m. Eastern Daylight Time. You may arrive at any time after 5:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m. Please see appendix 1 for additional information on the session format and conduct.³

³ The appendices referenced in this notice will not appear in the Federal Register. Copies of the appendices were sent to all those receiving this notice in the mail and are available at www.ferc.gov using the link called “eLibrary” or from the Commission's Public Reference Room, 888 First Street NE, Washington, DC 20426, or call (202) 502-8371.

Your oral comments will be recorded by the court reporter (with FERC staff or a representative present) and become part of the public record for this proceeding. If a significant number of people are interested in providing oral comments in the one-on-one settings, a time limit of 5 minutes may be implemented for each commentor. Although there will not be a formal presentation, Commission staff will be available throughout the comment session to answer your questions about the environmental review process.

FERC staff will also conduct a virtual comment session by telephone, scheduled as follows:

Date and time | Call-in number
Wednesday, May 3, 2023, 5 p.m. to 7 p.m. Eastern Daylight Time | 800-857-4883, Participant Passcode: 6833301.

Individual oral comments will be taken on a one-on-one basis with a court reporter present on the line. You may call at any time after 5:00 p.m., at which time you will be placed on mute and hold. Calls will be answered in the order they are received. Once your call is answered, you will have the opportunity to provide your comment directly to a court reporter with FERC staff or a representative present on the line. A time limit of 3 minutes will be implemented for each commentor.

Transcripts of the virtual and in-person comment sessions will be publicly available on FERC's eLibrary system (see page 3 for instructions on using eLibrary).

It is important to note that the Commission provides equal consideration to all comments received, whether filed in written form or provided orally at a comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Projects is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: April 11, 2023.
Kimberly D. Bose,
Secretary.

[FR Doc. 2023-08133 Filed 4-17-23; 8:45 am]

BILLING CODE 6717-01-P